DEPARTMENT OF HOUSING AND URBAN DEVELOPMENT

[Docket No. FR-4907-N-27]

Notice of Proposed Information Collection: Comment Request; Application for Approval—FHA Lender and/or Ginnie Mae Mortgage-Backed Securities Issuer Branch Office Notification—Title I/Title II

AGENCY: Office of the Assistant Secretary for Housing—Federal Housing Commissioner, HUD.

ACTION: Notice.

SUMMARY: The proposed information collection requirement described below will be submitted to the Office of Management and Budget (OMB) for review, as required by the Paperwork Reduction Act. The Department is soliciting public comments on the subject proposal.

DATES: Comments Due Date: October 25, 2004.

ADDRESSES: Interested persons are invited to submit comments regarding this proposal. Comments should refer to the proposal by name and/or OMB Control Number and should be sent to: Wayne Eddins, Reports Management Officer, Department of Housing and Urban Development, 451 7th Street, SW., L'Enfant Plaza Building, Room 8003, Washington, DC 20410 or Wayne_Eddins@hud.gov.

FOR FURTHER INFORMATION CONTACT: Phillip A. Murray, Director, Office of Lender Activities, Assistant Secretary for Housing, Department of Housing and Urban Development, 451 7th Street SW., Washington, DC 20410, telephone (202) 708-1515 (this is not a toll free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection ins necessary for the proper performance of the functions of the agency, including whether the information will have practical utility; (2) evaluate the accuracy of the agency's estimate of the burden of the proposed collection of information; (3) enhance the quality, utility, and clarity of the information to be collected; and (4) minimize the burden of the collection of information on those who are to respond; including the use of appropriate automated collection techniques or other forms of information technology, e.g., permitting electronic submission of responses.

This Notice also lists the following information:

Title of Proposal: Application for Approval—FHA Lender and/or Ginnie Mae Mortgage-Backed Securities Issuer Branch Office Notification—Title I/Title II.

OMB Control Number, if applicable: 2502-0005.

Description of the need for the information and proposed use: The Federal Housing Administration (FHA) and the Government National Mortgage Association (Ginnie Mae) of the Department of Housing and Urban Development approve entities to participate as Title I lenders, Title II mortgagees, and the Ginnie Mae mortgage-backed securities issuers. Specific information must be obtained and reviewed to determine if an entity meets the criteria to obtain the requested approval. In addition, this submission covers subsequent information required by FHA in order for entities to maintain their approval, update information previously submitted on the entity, report any non-compliance, and voluntarily terminate their FHA approval.

Agency form numbers, if applicable: HUD-11701 and HUD-92001-B.

Estimation of the total numbers of hours needed to prepare the information collection including number of respondents, frequency of response, and hours of response:

Item No. | Information collection | Number of expected respondents | Total annual responses | Hours per response | Total annual hours
1 | HUD-11701 Application for FHA Approval, by paper (including attachments) | 2,000 | 2,000 | 2.00 | 4,000
1 | Annual Verification Report by all approved lenders (by paper) | 11,500 | 11,500 | .10 | 1,150
1 | HUD-11701 Application for Ginnie Mae Approval, by paper (including attachments) |  | 50 | 1.25 | 63
2 | HUD-92100-B. Application for New Branch by loan correspondents, by paper (including attachments) |  | 1,500 | .50 | 750
3 | Electronic Registration of New Branch by Mortgagees via FHA Connection |  | 2,500 | .10 | 250
4 | Electronic Termination of Existing Branch by all lenders via FHA Connection |  | 3,000 | .05 | 150
5 | Cover Sheet for Application Fee or Conversion of Mortgagee Type for Title I Approval (by paper) |  | 200 | .05 | 10
5 | Cover Sheet for Application Fee or Conversion of Mortgagee Type for Title II Approval (by paper) |  | 1,800 | .05 | 90
5 | Application Fee for Branch registration electronically or request for approval in paper using HUD 92001-B |  | 4,000 | .05 | 200
7 | Non-Address Business Change Notification (by paper) |  | 600 | .50 | 300
8 | Address Updates via FHA Connection |  | 3,000 | .25 | 750
9 | Personnel Change Notification of new owners, officers, directors or partners (by paper) |  | 1,000 | .50 | 500
10 | Non-Compliance Notification pursuant to Lender Quality Control Plans (by paper) |  | 600 | 1.00 | 600
11 | Voluntary Termination by a Lender (by letter) |  | 500 | .25 | 125
Total |  | 13,500 | 32,250 |  | 8,938

Status of the proposed information collection: Revision of a currently approved collection.

Authority: The Paperwork Reduction Act of 1995, 44 U.S.C., Chapter 35, as amended.

Dated: August 18, 2004.
Sean G. Cassidy,
General Deputy Assistant Secretary for Housing, Deputy Federal Housing Commissioner.

[FR Doc. 04-19492 Filed 8-25-04; 8:45 am]

BILLING CODE 4210-27-M